DEPARTMENT OF ENERGY

Federal Energy Regulatory Commission

Sunshine Act Meeting

October 13, 2005.

The following notice of meeting is published pursuant to section 3(a) of the government in the Sunshine Act (Pub. L. No. 94-409), 5 U.S.C 552b:

Agency Holding Meeting: Federal Energy Regulatory Commission, DOE.

Date and Time: October 20, 2005, 10 a.m.

Place: Room 2C, 888 First Street, NE., Washington, DC 20426.

Status: Open.

Matters To Be Considered: Agenda.

*Note—Items listed on the agenda may be deleted without further notice.

Contact Person for More Information: Magalie R. Salas, Secretary, Telephone (202) 502-8400. For a recorded listing item stricken from or added to the meeting, call (202) 502-8627.

This is a list of matters to be considered by the Commission. It does not include a listing of all papers relevant to the items on the agenda; however, all public documents may be examined in the Public Reference Room.

897th—Meeting, Regular Meeting, October 20, 2005, 10 a.m.
Item No. | Docket No. | Company
ADMINISTRATIVE AGENDA
A-1 | AD02-1-000 | Agency Administrative Matters.
A-2 | AD02-7-000 | Customer Matters, Reliability, Security and Market Operations.
A-3 | AD05-16-000 | Winter Energy Market Assessment 2005-2006.
MARKETS, TARIFFS, AND RATES—ELECTRIC
E-1 | ER02-1406-006, ER02-1406-007, ER02-1406-008, ER02-1406-009, ER03-1372-003 | Acadia Power Partners, LLC
| ER99-3855-004, ER99-3855-005, ER01-1099-008, ER03-1368-002 | Cleco Power LLC.
| ER99-2300-006, ER99-2300-007, R03-1369-002 | Cleco Marketing & Trading LLC.
| ER99-2928-003, ER99-2928-004, ER99-2928-005, ER03-1371-002 | Cleco Evangeline LLC.
| ER01-1397-004, ER01-1397-005, ER01-1397-006, ER03-1370-003, EL05-113-000, EL05-113-001 | Perryville Energy Partners, LLC.
E-2 | ER99-1005-004 | Kansas City Power & Light Company.
| ER02-725-005, ER05-1441-000 | Great Plains Power, Inc.
| EL05-3-000 | Kansas City Power and Light Company and Great Plains Power, Inc.
E-3 | ER04-691-057, ER04-691-060 | Midwest Independent Transmission System Operator, Inc.
| EL04-104-054, EL04-104-057 | Public Utilities With Grandfathered Agreements in the Midwest ISO Region.
E-4 | OMITTED. |
E-5 | ER98-1466-003, ER05-1314-000, ER05-1314-001 | Allegheny Power.
| ER00-814-004 | Allegheny Energy Supply Company, LLC.
| ER01-2067-004 | Allegheny Energy Supply Gleason Generating Facility, LLC.
| ER01-2068-004, ER05-1429-000 | Allegheny Energy Supply Wheatland Generating Facility, LLC.
| ER01-332-003 | Allegheny Energy Supply Hunlock Creek, LLC.
| ER00-2924-004 | Green Valley Hydro, LLC.
| ER02-1638-003 | Buchanan Generation, LLC.
E-6 | OMITTED. |
E-7 | EC05-105-000 | Allegheny Energy, Inc.
| ER05-1212-000 | Monongahela Power Company, The Potomac Edison Company, Allegheny Energy Supply Company, LLC, Allegheny Energy OVEC Supply Company, LLC.
E-8 | ER05-667-000, ER05-667-001, ER05-667-002, ER05-667-003 | Midwest Independent Transmission System Operator, Inc.
E-9 | OMITTED. |
E-10 | ER05-719-000 | Entergy Services, Inc.
| ER05-719-001 |
E-11 | RT01-74-000 | Carolina Power & Light Company, Duke Energy Corporation, South Carolina Electric & Gas Company, GridSouth Transco, L.L.C.
E-12 | ER04-961-002, ER04-961-003 | Midwest Independent Transmission System Operator, Inc.
E-13 | ER04-691-046, ER04-691-050 | Midwest Independent Transmission System Operator, Inc.
| EL04-104-044, EL04-104-048 | Public Utilities With Grandfathered Agreements in the Midwest ISO Region.
E-14 | >OMITTED. |
E-15 | ER94-1188-036 | LG&E Energy Marketing, Inc.
| ER98-4540-005 | Louisville Gas and Electric Company.
| ER99-1623-005 | Kentucky Utilities Company.
| ER98-1279-007 | Western Kentucky Energy Corporation.
| ER98-1278-011 | WKE Station Two, Inc.
| EL05-99-000 | LG&E Energy Marketing, Inc.
E-16 | ER03-1003-002 | Michigan Electric Transmission Company.
E-17 | ER04-121-003 | ISO New England, Inc.
E-18 | OMITTED. |
E-19 | EL03-15-000 | City of Anaheim, California.
| EL03-20-000 | City of Riverside, California.
E-20 | EL05-16-000 | Aquila Merchant Services, Inc. v. Southwest Power Pool, Inc.
E-21 | ER04-981-001 | Connecticut Yankee Atomic Power Company.
| EL04-109-001 | Connecticut Department of Public Utility Counsel and Connecticut Office of Consumer Counsel.
E-22 | ER05-763-001, ER04-1209-002, EL05-29-001, ER05-410-002 | Southern California Edison Company.
E-23 | OMITTED. |
E-24 | ER98-3809-000 | 3E Technologies, Inc.
| ER97-2867-000 | AC Power Corporation.
| ER99-2369-000 | ACES Power Marketing LLC.
| ER98-4685-000 | ACN Power, Inc.
| ER00-105-000 | AI Energy, Inc.
| ER97-512-000 | A'Lones Group, Inc.
| ER00-861-000 | Alrus Consulting, LLC.
| ER97-2132-000 | Atlantic Energy Technologies, Inc.
| ER01-2355-000 | Beacon Generating, LLC.
| ER00-679-000 | Black River Power, LLC.
| ER98-701-000 | California Polar Power Broker, L.L.C.
| ER01-1701-000 | Callaway Golf Company.
| ER02-246-000 | Cambridge Electric Light Company.
| ER00-2945-000 | Candela Energy Corporation.
| ER01-2138-000 | Capital Energy, Inc.
| ER90-225-000 | Chicago Electric Trading, L.L.C.
| ER99-964-000 | Cielo Power Market, L.P.
| ER97-1968-000 | Colonial Energy, Inc.
| ER05-737-000 | Commerce Energy Inc.
| ER02-246-000 | Commonwealth Electric Company.
| ER98-1790-000 | Competisys LLC.
| ER96-2624-000 | Cumberland Power, Inc.
| ER01-2071-000 | Desert Power, L.P.
| ER94-1161-000 | Direct Electric Inc.
| ER94-1099-000 | Eclipse Energy, Inc.
| ER99-3098-000 | EGC 1999 Holding Company, L.P.
| ER98-2020-000 | Energy Clearinghouse Corp.
| ER98-2918-000 | Energy PM, Inc.
| ER96-358-000 | Energy Resource Management Corp.
| ER01-2221-000 | Energy Transfer-Hanover Ventures, LP.
| ER00-874-000 | Energy West Resources, Inc.
| ER96-138-000 | EnergyOnline, Inc.
| ER99-254-000 | ENMAR Corporation.
| ER98-3233-000 | Environmental Resources Trust, Inc.
| ER01-666-000 | EWO Marketing, L.P.
| ER97-382-000 | Exact Power Co., Inc.
| ER96-918-000 | Federal Energy Sales, Inc.
| ER00-1258-000 | First Electric Cooperative Corporation.
| ER97-3580-000 | First Power, LLC.
| ER02-687-000 | FMF Energy, Inc.
| ER96-1933-000 | Gelber Group, Inc.
| ER01-1078-000 | George Colliers, Inc.
| ER01-2405-000 | GNA Energy, LLC.
| ER98-4334-000 | Golden Valley Power Company.
| ER01-3023-000 | Hinson Power Company, LLC.
| ER01-2129-000 | Holt Company of Ohio.
| ER96-1819-000 | ICC Energy Corporation.
| ER95-802-000 | IEP Power Marketing, LLC.
| ER98-3478-000 | INFINERGY Services, LLC.
| ER00-1519-000 | InPower Marketing Corporation.
| ER01-688-000 | IPP Energy LLC.
| ER00-2306-000 | It's Electric & Gas, L.L.C.
| ER95-784-000 | J. Anthony & Associates Ltd.
| ER95-295-000 | Kaztex Energy Ventures, Inc.
| ER95-232-000 | Kimball Power Company.
| ER03-1259-000 | Kloco Corporation.
| ER94-1672-000 | Lambda Energy Marketing Company.
| ER02-30-000 | Longhorn Power, LP.
| ER01-1507-000 | Lumberton Power, LLC.
| ER00-1781-000 | Marquette Energy, LLC.
| ER99-801-000 | Metro Energy Group, LLC.
| ER99-1156-000 | Michigan Gas Exchange, L.L.C.
| ER95-78-000 | Mid-American Reesources, Inc.
| ER96-2027-000 | Midwest Energy, Inc.
| ER99-1293-000 | Monmouth Energy, Inc.
| ER01-2509-000 | Morrow Power, LLC.
| ER02-1238-000 | MPC Generating, LLC.
| ER94-1593-000 | National Power Exchange Corp.
| ER95-192-000 | National Power Management Company.
| ER01-352-000 | Natural Gas Trading Corporation.
| ER98-2618-000 | Nautilus Energy Company.
| ER99-2537-000 | Navitas, Inc.
| ER97-2681-000 | New Millennium Energy Corp.
| ER96-2892-000 | NGTS Energy Services.
| ER98-1915-000 | Nine Energy Services, LLC.
| ER94-152-000 | North American Energy Conservation, Inc.
| ER97-1716-000 | North Atlantic Utilities Inc.
| ER01-904-000 | North Carolina Power Holdings, LLC.
| ER98-622-000 | North Star Power Marketing, LLC.
| ER02-41-000 | North Western Energy Marketing, LLC.
| ER98-3048-000 | Northeast Electricity Inc.
| ER98-1125-000 | Northeast Empire L.P. #2.
| ER01-1479-000 | Northwest Regional Power, LLC.
| ER02-845-000 | Northwestern Wind Power, LLC.
| ER97-181-000 | Oceanside Energy, Inc.
| ER01-2783-000 | ODEC Power Trading, Inc.
| ER99-2883-000 | Old Mill Power Company.
| ER95-379-000 | Peak Energy, Inc.
| ER03-372-000 | Peak Power Generating Company.
| ER01-1821-000 | Power Dynamics, Inc.
| ER99-3275-000 | Power Management Co., LLC.
| ER96-2303-000 | Power Providers Inc.
| ER97-3187-000 | Power Systems Group, Inc.
| ER96-1-000 | Powertec International, LLC.
| ER01-2463-000 | Pro-Energy Development LLC.
| ER95-968-000 | Progas Power Inc.
| ER99-1876-000 |
| ER96-404-018 | PS Energy Group, Inc., Questar Energy Trading Company.
| ER02-809-000 | Renewable Energy Resources LLC.
| ER96-1516-000 | SEMCOR Energy.
| ER96-2591-000 | Strategic Power Management, Inc.
| ER01-2217-002 | Sunrise Power Company.
| ER96-2524-000 | Symmetry Device Research, Inc.
| ER00-1250-000 | Tacoma Energy Recovery Company.
| ER95-581-000 | Tennessee Power Company.
| ER95-1787-000 | Texaco Natural Gas Inc.
| ER01-2694-000 | The Energy Group of America, Inc.
| ER99-3571-000 | The Legacy Energy Group, LLC.
| ER01-373-002 | Tiger Natural Gas, Inc.
| ER00-494-000 | TransAlta Centralia Generation LLC.
| ER98-1055-000 | TransAlta Energy Marketing (US) Inc.
| ER01-3148-000 | TransAlta Energy Marketing Corp. (US).
| ER01-2234-000 | Travis Energy & Environment, Inc.
| ER04-957-000 | TXU Electric Delivery Company.
| ER96-105-000 | U.S. Power & Light, Inc.
| ER01-1709-000 | VIASYN, Inc.
| ER02-1046-000 | Walton County Power, LLC.
| ER98-537-000 | Western Energy Marketers, Inc.
| EL05-111-000 | 3E Technologies, Inc.
E-25 | ER03-409-000, EL05-35-000 | Pacific Gas and Electric Company.
MARKETS, TARIFFS, AND RATES—MISCELLANEOUS
M-1 | RM06-3-000 | Prohibition of Energy Market Manipulation.
M-2 | PL06-1-000 | Enforcement of Statutes, Orders, Rules, and Regulations.
M-3 | OMITTED. |
M-4 | RM06-2-000 | Procedures for Disposition of Contested Audit Matters.
MARKETS, TARIFFS, AND RATES—GAS
G-1 | RP04-248-005, RP04-251-006, RP04-248-006, RP04-251-007 | El Paso Natural Gas Company.
G-2 | RP98-39-000, RP98-39-029 | Northern Natural Gas Company.
G-3 | OMITTED. |
G-4 | OMITTED. |
G-5 | OR05-9-000 | Flint Hills Resources Alaska, LLC v. ConocoPhillips Alaska, Inc., Exxon Mobil Corporation, Tesoro Alaska Company BP America Production Company, BP Exploration (Alaska) Inc., OXY USA Inc., Union Oil Company of California Petro Star Inc., State of Alaska, BP Pipelines (Alaska) Inc., ConocoPhillips Transportation Alaska, Inc., ExxonMobil Pipeline Company, Koch Alaska Pipeline Company, LLC., Unocal Pipeline Company.
G-6 | OR89-2-016, OR89-2-017 | Trans Alaska Pipeline System.
| OR96-14-005, OR96-14-006 | Exxon Company, U.S.A. v. Amerada Hess Pipeline Corporation.
| OR98-24-000, OR98-24-002 | Tesoro Alaska Petroleum Company v. Amerada Hess Pipeline Corporation.
| IS03-137-000, IS03-137-001 | BP Pipelines (Alaska), Inc.
| IS03-141-000, IS03-141-001 | ExxonMobil Pipeline Company.
| IS03-142-000, IS03-142-001 | Phillips Transportation Alaska, Inc.
| IS03-143-000, IS03-143-001 | Unocal Pipeline Company.
| IS03-144-000, IS03-144-001 | Williams Alaska Pipeline Company, L.L.C.
ENERGY PROJECTS—HYDRO
H-1 | P-12480-001 | Wind River Hydro, LLC.
| P-12457-001 | Eastern Shoshone Tribe of the Wind River Reservation.
H-2 | P-1934-014 | Southern California Edison Company.
H-3 | P-400-042 | Public Service Company of Colorado.
ENERGY PROJECTS—CERTIFICATES
C-1 | CP05-76-000, CP05-77-000, CP05-78-000 | Dominion South Pipeline Company, L.P.
C-2 | OMITTED. |
C-3 | OMITTED. |
C-4 | OMITTED. |
C-5 | OMITTED. |
C-6 | CP04-365-001 | Dominion Transmission, Inc.
C-7 | CP04-34-001 | Columbia Gas Transmission Corporation.

Magalie R. Salas,
Secretary.

The Capitol Connection offers the opportunity for remote listening and viewing of the meeting. It is available for a fee, live over the Internet, via C-Band Satellite. Persons interested in receiving the broadcast, or who need information on making arrangements should contact David Reininger or Julia Morelli at the Capitol Connection (703-993-3100) as soon as possible or visit the Capitol Connection Web site at http://www.capitolconnection.gmu.edu and click on “FERC”

Immediately following the conclusion of the Commission Meeting, a press briefing will be held in Hearing Room 2. Members of the public may view this briefing in the Commission Meeting overflow room. This statement is intended to notify the public that the press briefings that follow Commission meetings may now be viewed remotely at Commission headquarters, but will not be telecast through the Capitol Connection service.

[FR Doc. 05-21013 Filed 10-17-05; 2:05 pm]

BILLING CODE 6717-01-P